ENVIRONMENTAL PROTECTION AGENCY

[OPP-2002-0009; FRL-6832-6]

Availability of Reregistration Eligibility Decision Document for Comment

AGENCY: Environmental Protection Agency (EPA).

ACTION: Notice.

SUMMARY: This notice announces availability and starts a 60-day public comment period on the Reregistration Eligibility Decision (RED) document for the pesticide active ingredient propargite. The RED represents EPA's formal regulatory assessment of the health and environmental data base of the subject chemical and presents the Agency's determination regarding which pesticidal uses are eligible for reregistration.

DATES: Comments, identified by docket control number OPP-2002-0009, must be received on or before June 17, 2002.

ADDRESSES: Comments may be submitted by mail, electronically, or in person. Please follow the detailed instructions for each method as provided in Unit I. of the SUPPLEMENTARY INFORMATION. To ensure proper receipt by EPA, it is imperative that you identify docket control number OPP-2002-0009 in the subject line on the first page of your response.

FOR FURTHER INFORMATION CONTACT: By mail: Dayton Eckerson, Special Review and Reregistration Division (7508W), Office of Pesticide Programs, Environmental Protection Agency, 1200 Pennsylvania Ave., NW., Washington, DC 20460; telephone number: (703) 308-8038; and e-mail address: eckerson.dayton@epa.gov.

SUPPLEMENTARY INFORMATION:

I. General Information

A. Does this Action Apply to Me?

This action is directed to the public in general. This action may, however, be of interest to persons who are or may be required to conduct testing of chemical substances under the Federal Insecticide, Fungicide, and Rodenticide Act (FIFRA) or the Federal Food, Drug, and Cosmetic Act (FFDCA); environmental, human health, and agricultural advocates; pesticides users; and members of the public interested in the use of pesticides. Since other entities may also be interested, the Agency has not attempted to describe all the specific entities that may be affected by this action. If you have any questions regarding the applicability of this action to a particular entity, consult the person listed under FOR FURTHER INFORMATION CONTACT.

B. How Can I Get Additional Information, Including Copies of this Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

To access RED documents and RED fact sheets electronically, go directly to the REDs table on the EPA Office of Pesticide Programs Home Page, at http://www.epa.gov/pesticides/reregistration/status.htm.

2. In person. The Agency has established an official record for this action under docket control number OPP-2002-0009. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-2002-0009 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Highway, Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0/9.0 or ASCII file format. All comments in electronic form must be identified by docket control number OPP-2002-0009. Electronic comments may also be filed online at many Federal Depository Libraries.

D. How Should I Handle CBI That I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person identified under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this document.

8. To ensure proper receipt by EPA, be sure to identify the docket control number assigned to this action in the subject line on the first page of your response. You may also provide the name, date, and Federal Register citation.

II. Background

A. What Action is the Agency Taking?

The Agency has issued a RED for the pesticide active ingredient listed in this document. Under the Federal Insecticide, Fungicide, and Rodenticide Act (FIFRA), as amended in 1988, EPA is conducting an accelerated reregistration program to reevaluate existing pesticides to make sure they meet current scientific and regulatory standards. The data base to support the reregistration of the chemical listed in this document is substantially complete, and the pesticide's risks have been mitigated so that it will not pose unreasonable risks to people or the environment when used according to its approved labeling. In addition, EPA is reevaluating existing pesticides and reassessing tolerances under the Food Quality Protection Act (FQPA) of 1996. The pesticide included in this notice also has been found to meet the FQPA safety standard.

All registrants of pesticide products containing the active ingredient listed in this document have been sent the appropriate RED, and must respond to labeling requirements and product-specific data requirements (if applicable) within 8 months of receipt. Products also containing other pesticide active ingredients will not be reregistered until those other active ingredients are determined to be eligible for reregistration.

The reregistration program is being conducted under Congressionally-mandated time frames, and EPA recognizes both the need to make timely reregistration decisions and to involve the public. Therefore, EPA is generally issuing these REDs as final documents with a 60-day comment period. Although the 60-day public comment period does not affect the registrant's response due date, it is intended to provide an opportunity for public input and a mechanism for initiating any necessary amendments to the REDs. All comments will be carefully considered by the Agency. If any comment significantly affects a RED, EPA will amend the RED by publishing a description of the amendment in the Federal Register.

EPA is particularly interested in receiving comments on the practicality of the revised restricted entry intervals (REIs) contained in the RED. (The REI is the period of time following a pesticide application during which EPA restricts worker entry into a treated area to mitigate risks posed by pesticide residues. Once the REI expires, EPA believes residues have declined to a point where they pose negligible risks to workers). As noted in the RED, the Agency typically structures its REI label requirements so that a single REI will apply to all post-application activities for a given crop or crop group. In other words, even if management of a given crop requires multiple post-application activities, the Agency will establish a single REI for all those activities even if those activities involve different exposure potentials. To ensure that workers are adequately protected, that one REI will usually be based on the activity that involves the highest level of exposure. This approach is favored because users and employers are more likely to understand and comply with clear labels. Also, establishing multiple activity-based REIs for crops could cause confusion and compromise compliance with and enforcement of worker protection regulations. However, when the consideration of risks and benefits indicate that a single REI is unworkable, EPA will consider granting exceptions. For most propargite uses, a single crop-specific REI is being proposed in the RED because no critical activity was identified that warranted establishing an exception. During the 60-day comment period for this RED, however, EPA will accept further comments from growers regarding needs for additional REI exceptions for specific post-application activities, and will add such exceptions where needed if there are adequate margins of exposure (MOEs) and/or benefits associated with such activities warrant such an exception. To assist the Agency in making its risk/benefit finding on a specific exception request, the following benefits-related information is most useful.

1. Identify the crop(s) and provide a description of the specific production task(s) for which the exception is requested. Explain why the task is critical during the REI. As specifically as possible, describe how the task is performed including timing within the growing season, equipment and/or PPE used in performing the task, nature of the contact with treated surfaces, and duration for performing the task including the number of hours per days and number of days.

2. Explain why the critical tasks cannot be performed prior to application or after the REI has expired. Include detailed information on the critical pest(s), the timing of the application, and the impact of modifying the pesticide application to conform to the REI.

3. Describe the geographic area for which the exception or prohibition is requested. If the exception request is limited to a specific geographic area, describe why the circumstances of exposure or economic impact resulting from the prohibition of routine hand tasks during the REI are unique to the geographic area named in the exception.

4. Explain, for each requested crop/task combination, why alternative practices would not be technically or financially viable. Such alternative practices might include rescheduling the pesticide application or hand labor activity; using non-chemical pest control alternatives; using an alternative to hand labor tasks, such as machine cultivation; or substituting a pesticide with a shorter REI. This information should include estimates or data on per acre revenue, and cost of production for the crop area for which the exception is requested. These estimates or data should include: The current situation, the situation if the exception is not granted, the situation if the exception is granted, and specific information on the individual factors which cause differences in revenues and cost among the three situations.

5. Provide documentation or a description of the safety and feasibility of such an exception, including, but not limited to, the period of time required daily per worker to perform the hand labor activity, any suggested methods of reducing the worker's exposure, and any other mitigating factors, such as the availability of mechanical devices that would reduce the workers' contact with the treated surfaces.

B. What is the Agency's Authority for Taking this Action?

The legal authority for this RED falls under FIFRA, as amended in 1988 and 1996. Section 4(g)(2)(A) of FIFRA directs that, after submission of all data concerning a pesticide active ingredient, “the Administrator shall determine whether pesticides containing such active ingredient are eligible for reregistration,” before calling in product-specific data on individual end-use products, and either reregistering products or taking “other appropriate regulatory action.”

List of Subjects

Environmental protection.

Dated: April 5, 2002.
Lois Rossi,
Director, Special Review and Reregistration Division, Office of Pesticide Programs.

[FR Doc. 02-9501 Filed 4-17-02 8:45 am]

BILLING CODE 6560-50-S